DEPARTMENT OF AGRICULTURE

Forest Service

RIN 0596-AC44

Notice of Extension of Public Comment Period for Proposed Native Plant Material Policy (FSM 2070)

AGENCY: Forest Service, USDA.

ACTION: Notice of extension of public comment period.

SUMMARY: The Forest Service is extending the public comment period an additional 30 days for the Proposed Native Plant Material Policy (FSM 2070). The Forest Service is proposing to establish a new directive to Forest Service Manual (FSM) 2070 for native plant materials, which will provide direction for the use, growth, development, and storage of native plant materials. Public comment is invited and will be considered in development of the final directive. A copy of the proposed directive is available at http://www.fs.fed.us/rangelands/whoweare/documents/FSM2070_Final_2_062905.pdf

DATES: Comments must be received in writing, on or before August 24, 2006.

ADDRESSES: Send written comments via the U.S. Postal Service to; Native Plant Materials Proposed Directive, Rangeland Management Staff, MAIL STOP 1103, Forest Service, USDA, 1400 Independence Avenue, SW., Washington, DC 20250, or by facsimile to (202) 205-1096 or by e-mail to nativeplant@fs.fed.us. If comments are sent via facsimile or email, the public is asked not to submit duplicate written comments by mail. Please confine comments to issues pertinent to the proposed directive and explain the reasons for any recommended changes. All comments, including names and addresses when provided, are placed in the record and are available for public inspection and copying at 201 14th Street, SW., Washington, DC, during regular business hours, 8:30 a.m. to 4:30 p.m., Monday through Friday, except holidays. Persons wishing to inspect the comments are encouraged to call in advance to Brian Boyd, (202) 205-1496 to facilitate entrance into the building.

FOR FURTHER INFORMATION CONTACT: Larry Stritch, Rangeland Management Staff, USDA Forest Service, Mailstop 1103, 1400 Independence Avenue, SW., Washington, DC 20250, (202) 205-1279.

SUPPLEMENTARY INFORMATION: Title 36 CFR 219.10(b) states: “The overall goal of the ecological element of sustainability is to provide a framework to contribute to sustaining native ecological systems by providing ecological conditions to support diversity of native plant and animal species in the plan area.” Executive Order 13112 (February 3, 1999, sec. 2(a)(2)(IV)) on invasive species states the agencies will “provide for restoration of native species and habitat conditions in ecosystems that have been invaded [by non-native species].” In accordance with the executive order and regulation, the Forest Service is developing a new proposed directive to Forest Service Manual (FSM) 2070, Native Plant Materials, which addresses the uses of native plant materials in the revegetation, restoration, and rehabilitation of National Forest System lands in order to achieve the Agency's goal of providing for the diversity of plant and animal communities. The proposed policy would direct collaboration with Federal, State, and local government entities and the public to develop and implement a program for native plant materials for use in revegetation, restoration, and rehabilitation.

In proposing this new policy, the Forest Service's goal is to promote the use of native plant materials in revegetation for restoration and rehabilitation in order to manage and conserve terrestrial and aquatic biological diversity. The proposed policy defines a native plant as: all indigenous terrestrial and aquatic plant species that evolved naturally in an ecosystem. The proposed policy also requires the use of best available information to choose ecologically adapted plant materials for the site and situation. Further, the proposed policy states that native plants are to be used when timely natural regeneration of the native plant community is not likely to occur; native plant materials are the first choice in revegatation for restoration and rehabilitation efforts. Nonnative, non-invasive plant species may be used when needed: (1) In emergency conditions to protect basic resource values such as soil stability and water quality; (2) as an interim, non-persistent measure designed to aid in new establishment of native plants (unless natural soil, water and biotic conditions have been permanently altered); (3) native plant species are not available; and (4) when working in permanently altered plant communities. Under no circumstances will nonnative invasive plant species be used.

When the proposed policy is issued as final, the Forest Service will: (1) Undertake a comprehensive assessment of needs (type and amount) for native plant materials; (2) invest in a long-term commitment to research and development, education, and technology transfer for native plant materials; (3) expand efforts to increase the availability of native plant materials; and (4) collaborate with other federal agencies; tribal, State, and local governments; academic institutions; and the private sector.

Dated: July 19, 2006.
Dale N. Bosworth,
Chief, Forest Service.

[FR Doc. E6-11838 Filed 7-24-06; 8:45 am]

BILLING CODE 3410-11-P